DEPARTMENT OF LABOR

Employment and Training Administration

[TA-W-54,115; TA-W-54,115A]

California Amplifier, Inc.: KTI Division, Richland Center, WI; Components Division, Spring Green, WI; Dismissal of Application for Reconsideration

Pursuant to 29 CFR 90.18(C) an application for administrative reconsideration was filed with the Director of the Division of Trade Adjustment Assistance for workers at California Amplifier, Inc., KTI Division, Richland Center, Wisconsin and California Amplifier, Inc., Components Division, Spring Green, Wisconsin. The application contained no new substantial information which would bear importantly on the Department's determination. Therefore, dismissal of the application was issued.

TA-W-54,115; California Amplifier, Inc., KTI Division, Richland Center, Wisconsin, (May 27, 2004).

TA-W-54,115A; California Amplifier, Inc., Components Division, Spring Green, Wisconsin, (May 27, 2004).

Signed at Washington, DC, this 27th day of May, 2004.
Timothy Sullivan,
Director, Division of Trade Adjustment Assistance.

[FR Doc. 04-12870 Filed 6-7-04; 8:45 am]

BILLING CODE 4510-30-P